DEPARTMENT OF AGRICULTURE

Agricultural Marketing Service

[AMS-CN-10-0038, CN-10-002]

Cotton Classing, Testing and Standards: Notice of Request for an Extension and Revision to a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget, for an extension and revision to the currently approved information collection Cotton Classing, Testing, and Standards.

DATES: Comments received by July 19, 2010 will be considered.

ADDITIONAL INFORMATION OR COMMENTS: Interested persons are invited to submit written comments concerning this proposal to Shethir Riva, Chief, Research and Promotion, Cotton and Tobacco Programs, Agricultural Marketing Service, USDA, 1400 Independence Ave., SW., Room 2637-S, Washington, DC 20250-0224. Comments should be submitted in triplicate. Comments may also be submitted electronically through http://www.regulations.gov. All comments should reference the docket number and page number of this issue of the Federal Register. All comments received will be made available for public inspection through http://www.regulations.gov or at Cotton and Tobacco Programs, AMS, USDA, 1400 Independence Ave., SW., Room 2637-S, Washington, DC 20250 during regular business hours.

FOR FURTHER INFORMATION CONTACT: Shethir Riva, Chief, Research and Promotion, Cotton and Tobacco Programs, Agricultural Marketing Service, USDA, 1400 Independence Ave., SW., Room 2637-S, Washington, DC 20250-0224, telephone (202) 720-3193, facsimile (202) 690-1718, or e-mail at Shethir.riva@ams.usda.gov.

SUPPLEMENTARY INFORMATION: Title: Cotton Classing, Testing, and Standards.

OMB Number: 0581-0008.

Expiration Date of Approval: December 30, 2010.

Type of Request: Extension and Revision of a Currently Approved Information Collection.

Abstract: Information solicited is used by the USDA to administer and supervise activities associated with the classification or grading of cotton, cotton linters, and cottonseed based on official USDA Standards. The information requires personal data, such as name, type of business, address, and description of classification services requested. These programs are conducted under the United States Cotton Standards Act (7 U.S.C. 51b), the Cotton Statistics and Estimates Act of 1927 (7 U.S.C. 473c), and the Agricultural Marketing Act of 1946 (7 U.S.C. 1622h) and regulations appear at 7 CFR part 28.

The information collection requirements in this request are essential to carry out the intent of the Acts and to provide the cotton industry the type of information they need to make sound business decisions. The information collected is the minimum required. Information is requested from growers, cooperatives, merchants, manufacturers, and other government agencies.

The information collected is used only by authorized employees of the USDA, AMS. The cotton industry is the primary user of the compiled information and AMS and other government agencies are secondary users.

Estimate of Burden: Public reporting burden for this collection of information is estimated to average 0.08 hours per response.

Respondents: Cotton merchants, warehouses, and gins.

Estimated Number of Respondents: 893.

Estimated Number of Responses per Respondent: 2.01.

Estimated Number of Responses: 1,793.

Estimated Total Annual Burden on Respondents: 136.15.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Shethir Riva, Chief, Research and Promotion, Cotton and Tobacco Programs, Agricultural Marketing Service, USDA, 1400 Independence Ave., SW., Room 2637-S, Washington, DC 20250-0224. All comments received will be available for public inspection during regular business hours at the same address or at http://www.regulations.gov.

All responses to this notice will be summarized and included in the request for OMB approval. All comments will become a matter of public record.

Dated: May 14, 2010.
David R. Shipman,
Acting Administrator, Agricultural Marketing Service.

[FR Doc. 2010-12028 Filed 5-19-10; 8:45 am]

BILLING CODE 3410-02-P